DEPARTMENT OF COMMERCE

Foreign-Trade Zones Board

[Docket 54-2005]

Foreign-Trade Zone 104 -- Chatham County, Georgia, Application for Expansion

An application has been submitted to the Foreign-Trade Zones (FTZ) Board (the Board) by the Savannah Airport Commission, grantee of FTZ 104, requesting authority to expand its zone to include a site in Liberty County, Georgia, adjacent to the Savannah Customs port of entry. The application was submitted pursuant to the provisions of the Foreign-Trade Zones Act, as amended (19 U.S.C. 81a-81u), and the regulations of the Board (15 CFR Part 400). It was formally filed on October 24, 2005.

FTZ 104 was approved on April 18, 1984 (Board Order 256, 49 FR 17789, 4/25/84) and expanded on October 13, 1995 (Board Order 775, 60 FR 54469, 10/24/95), and on December 18, 2001 (Board Order 1197, 66 FR 67183, 12/28/01).

FTZ 104 currently consists of the following sites (5,487 acres) in the Savannah, Georgia, area: Site 1 (32 acres) -- within the 3,400-acre Savannah International Airport; Site 2 (1,075 acres) -- includes the 849-acre Garden City (Containerport) Terminal, 2 Main Street, Chatham and the 226-acre Ocean Terminal, 950 West River Street, Savannah; Site 2a (1 acre, 43,560 sq. ft.) -- 730 King George Boulevard, Savannah; Site 3 (1,820 acres) -- Crossroads Business Center, I-95 and Godley Road, Chatham County; Site 4 (1,353 acres) -- SPA Industrial Park, 1 mile east of the I-95/U.S. 80 interchange in Chatham County; Site 5 (24 acres) -- within the 94-acre Savannah International Trade and Convention Center, One International Drive, Savannah; and, Site 6 (1,182 acres) -- Mulberry Grove site, Interstate 95 and State Highway 21, Savannah.

The applicant is now requesting authority to expand the zone to include a site in Liberty County. Proposed Site 7 (1,592 acres) consists of three parcels within a 2,140-acre portion of the Tradeport Business Center industrial park located around 380 Sunbury Road in Midway: Proposed Site 7A -- Tradeport West (602 acres, 2 parcels) located west of Interstate 95 (near Exit 76), east of US Highway 17 and south of US Highway 84; and, Proposed Site 7B -- Tradeport East (990 acres) located east of Interstate 95 (near Exit 76) and north of Islands Highway. The proposed site is owned by the Liberty County Development Authority and is suitable for warehousing, light manufacturing, distribution and logistics activities. No specific manufacturing requests are being made at this time. Such requests would be made to the Board on a case-by case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-Suite 4100W, 1401 Constitution Avenue, NW., Washington, DC 20230.

The closing period for their receipt is January 3, 2006. Rebuttal comments in response to material submitted during the foregoing period may be submitted during the subsequent 15-day period (to January 17, 2006).

A copy of the application and accompanying exhibits will be available during this time for public inspection at the Office of the Foreign-Trade Zones Board's Executive Secretary at the first address listed above, and at the U.S. Department of Commerce, Export Assistance Center, 111 East Liberty Street, Suite 202, Savannah, GA 31401.

Dated: October 25, 2005.
Dennis Puccinelli,
Executive Secretary.

[FR Doc. 05-21770 Filed 10-31-05; 8:45 am]

BILLING CODE 3510-DS-S